DEPARTMENT OF DEFENSE

GENERAL SERVICES ADMINISTRATION

NATIONAL AERONAUTICS AND SPACE ADMINISTRATION

[OMB Control No. 9000-0006; Docket 2012-0076; Sequence 57]

Federal Acquisition Regulation; Information Collection; Subcontracting Plans/Individual Subcontract Report (SF-294)

AGENCIES: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning subcontracting plans/individual subcontract report (SF-294).

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before January 22, 2013.

ADDRESSES: Submit comments identified by Information Collection 9000-0006, Subcontracting Plans/Individual Subcontract Report (SF-294), by any of the following methods:

• Regulations.gov: http://www.regulations.gov. Submit comments via the Federal eRulemaking portal by searching the OMB control number. Select the link “Submit a Comment” that corresponds with “Information Collection 9000-0006, Subcontracting Plans/Individual Subcontract Report (SF-294)”. Follow the instructions provided at the “Submit a Comment” screen. Please include your name, company name (if any), and “Information Collection 9000-0006, Subcontracting Plans/Individual Subcontract Report (SF-294)” on your attached document.

• Fax: 202-501-4067.

• Mail: General Services Administration, Regulatory Secretariat (MVCB), 1275 First Street NE., Washington, DC 20417. ATTN: Hada Flowers/IC 9000-0006, Subcontracting Plans/Individual Subcontract Report (SF-294).

Instructions: Please submit comments only and cite Information Collection 9000-0006, Subcontracting Plans/Individual Subcontract Report (SF-294), in all correspondence related to this collection. All comments received will be posted without change to http://www.regulations.gov, including any personal and/or business confidential information provided.

FOR FURTHER INFORMATION CONTACT: Mr. Karlos Morgan, Procurement Analyst, Office of Acquisition Policy, GSA (202) 501-2364 or email karlos.morgan@gsa.gov.

SUPPLEMENTARY INFORMATION:

I. Purpose

In accordance with Federal Acquisition Regulation 19.702, contractors receiving a contract for more than the simplified acquisition threshold agree to have small business, small disadvantaged business, and women-owned small business, HUBZone small business, veteran-owned small business and service-disabled veteran-owned small business concerns participate in the performance of the contract as far as practicable. Contractors receiving a contract or a modification to a contract expected to exceed $650,000 ($1,500,000 for construction) must submit a subcontracting plan that provides maximum practicable opportunities for the above named concerns. Specific elements required to be included in the plan are specified in section 8(d) of the Small Business Act and implemented in FAR subpart 19.7.

In conjunction with the subcontracting plan requirements, contractors must submit semi-annual reports of their small business subcontracting progress to the government. With the exception of those contracts noted in FAR 4.606(c)(5) which states “Actions that, pursuant to other authority, will not be entered in FPDS (e.g., reporting of the information would compromise national security)”, contractors must use the electronic Individual Subcontract Report (ISR) in lieu of the Standard Form 294, Subcontracting Report for Individual Contracts. Those contract actions noted in FAR 4.606(c)(5) will continue to use the Standard Form 294.

The ISR in the Electronic Subcontracting Reporting System (eSRS) is the electronic equivalent of the Standard Form 294, Subcontracting Report for Individual Contracts. The Electronic Subcontracting Reporting System streamlines the small business subcontracting program reporting process and provides the data to agencies in a manner that enables them to more effectively manage the program.

II. Annual Reporting Burden

Based on information from eSRS and an estimate of the use of eSRS, an upward adjustment is being made to the number of respondents, but a downward adjustment is being made to the average burden hours for reporting and recordkeeping per response. As a result, a downward adjustment is being made to the estimated annual reporting burden since the notice regarding an extension to this clearance published in the Federal Register at 75 FR 9604, on March 3, 2010.

Respondents: 129,009.

Responses per Respondent: 3.

Total Responses: 387,027.

Average Burden Hours per Response: 8.50.

Total Burden Hours: 3,289,729.50.

Obtaining Copies of Proposals: Requesters may obtain a copy of the information collection documents from the General Services Administration, Regulatory Secretariat (MVCB), 1275 First Street NE., Washington, DC 20417, telephone (202) 501-4755. Please cite OMB Control No. 9000-0006, Subcontracting Plans/Individual Subcontract Report (SF-294), in all correspondence.

Dated: November 8, 2012.
William Clark,
Acting Director, Federal Acquisition Policy Division, Office of Governmentwide Acquisition Policy, Office of Acquisition Policy, Office of Governmentwide Policy.

[FR Doc. 2012-28034 Filed 11-19-12; 8:45 am]

BILLING CODE 6820-EP-P